DEPARTMENT OF ENERGY

Federal Energy Regulatory Commission

[Docket No. CP09-467-000]

CenterPoint Enery Gas Transmission Company; Notice of Request Under Blanket Authorization

September 30, 2009.

Take notice that on September 22, 2009, CenterPoint Energy Gas Transmission Company (CEGT), 1111 Louisiana Street, Houston, Texas 77002-5231, filed in Docket No. CP09-467-000 an application pursuant to sections 157.205, 157.208(b), 157.211(a), and 157.216(b) of the Commission's Regulations under the Natural Gas Act (NGA) as amended, to abandon and replace certain deteriorated pipeline facilities in Garland and Hot Spring Counties, Arkansas, under CEGT's blanket certificate issued in Docket No. CP82-384-000,¹ as amended in Docket No. CP82-384-001,² all as more fully set forth in the application which is on file with the Commission and open to public inspection.

¹ 20 FERC ¶ 62,408 (1982).

² 22 FERC ¶ 61,148 (1983).

CEGT proposes to abandon 18.5 miles of 10-inch and 12-inch diameter pipeline on its Line AM-22 ³ in Hot Spring and Garland Counties; replace approximately 7.5 miles of Line AM-22 with approximately 7.9 miles of 10-inch diameter pipeline, and abandon approximately 0.171 mile of 2-inch pipeline on Line AM-121.⁴ CEGT also proposes to replace approximately 7.5 miles of Line AM-22 with approximately 7.9 miles of 10-inch diameter pipeline. CEGT also proposes to install various taps and meter stations to continue natural gas service to its existing customers currently served by the facilities that CEGT would abandon and replace. CEGT estimates that the proposed replacement facilities would cost $11,096,296 to construct and install.

³ Line AM-22 was constructed in 1920 under authorization granted in Docket No. G-252 [3 FPC 910 (1943)].

⁴ Line AM-121 was constructed in 1948 under authorization granted in Docket No. G-10887 [16 FPC 1382 (1956)].

Any questions regarding this application should be directed to Michele Willis, Manager, Compliance & Regulatory, CenterPoint Energy Gas Transmission Company, P.O. Box 21734, Shreveport, Louisiana 71151, or via telephone at (318) 429-3708.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-24124 Filed 10-6-09; 8:45 am]

BILLING CODE 6717-01-P